DEPARTMENT OF THE INTERIOR

Fish and Wildlife Service

[FWS-R8-ES-2020-N087; FXES11140800000-201-FF08ECAR00]

Notice of Availability; Amendment to the Multiple Species Conservation Program, County of San Diego Subarea Plan for Otay Ranch Village 14 and Planning Areas 16 and 19, San Diego County, California; Environmental Assessment

AGENCY: Fish and Wildlife Service, Interior.

ACTION: Notice of availability of documents; request for public comment.

SUMMARY: We, the U.S. Fish and Wildlife Service (Service), announce receipt of an application from the County of San Diego (County) to amend its existing incidental take permit for the Multiple Species Conservation Program (MSCP) County of San Diego Subarea Plan (Subarea Plan) for Otay Ranch Village 14 and Planning Areas 16 and 19. Under the National Environmental Policy Act, we are making available the draft amendment and draft environmental assessment, which evaluates the impacts on the human environment associated with the proposed amendment. We provide this notice to seek comments from the public and Federal, Tribal, State, and local governments.

DATES: To ensure consideration, please send your written comments by August 24, 2020.

ADDRESSES: Obtaining Documents: You may obtain copies of the documents by the following methods:

• Internet: https://www.fws.gov/carlsbad/HCPs/HCP_Docs.html.

• Telephone: 760-431-9440.

Submitting Comments: You may submit comments by one of the following methods. Please include “Otay Ranch Village 14” at the beginning of your comments.

• U.S. Mail: Carlsbad Fish and Wildlife Office, U.S. Fish and Wildlife Service, 2177 Salk Avenue, Suite 250, Carlsbad, CA 92008.

• Email: fw8cfwocomments@fws.gov.

FOR FURTHER INFORMATION CONTACT: Susan Wynn, Carlsbad Fish and Wildlife Office, 760-431-9440. If you use a telecommunications device for the deaf (TDD), please call the Federal Relay Service (FRS) at 800-877-8339.

SUPPLEMENTARY INFORMATION: We, the U.S. Fish and Wildlife Service (Service), announce receipt of an application from the County of San Diego (County) to amend its existing incidental take permit (PRT-840414) for the Multiple Species Conservation Program (MSCP) County of San Diego Subarea Plan (Subarea Plan) for Otay Ranch Village 14 and Planning Areas 16 and 19 (Project). The County is requesting an amendment to change the footprint of the Project, as well as add incidental take coverage for the federally endangered Quino checkerspot butterfly (Euphydryas editha quino) and San Diego fairy shrimp (Branchinecta sandiegonensis). The amendment is needed to authorize take of listed wildlife species (including harm, death, and injury) resulting from covered activities related to the Project. The proposed Project encompasses 1,543 acres in the southwestern portion of San Diego County, California.

We also make available an environmental assessment (EA), which evaluates the impacts of the proposed Project and the no-action alternative. The EA also analyzes the environmental consequences of a proposed land disposal and exchange for 219.4 acres of land that was acquired, in part, from a Federal cooperative agreement and an Endangered Species Act section 6 Habitat Conservation Plan Land Acquisition grant.

We make these documents available under the National Environmental Policy Act (42 U.S.C. 4321 et seq.). We provide this notice to seek comments from the public and Federal, Tribal, State, and local governments.

Background

Section 9 of the Endangered Species Act of 1973, as amended (Act; 16 U.S.C. 1531 et seq.), and Federal regulations prohibit the “take” of fish and wildlife species federally listed as endangered or threatened. Take of federally listed fish or wildlife is defined under the Act as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3(c)). Under limited circumstances, we may issue permits to authorize incidental take, which is defined under the Act as take that is incidental to, and not the purpose of, otherwise lawful activities. The definition of “Take” under the Act does not apply to plant species; however, plant species can be listed on the Federal Permit as Covered Species in recognition of the conservation measures provided for them under the Plan and to receive “No Surprises” regulatory assurances under the Federal Permit.

Proposed Action

The County's existing permit covers 85 species, and the County is requesting amended incidental take authorization for covered wildlife species related to the change in the Project footprint. Additionally, the County is requesting Project-specific incidental take authorization for the San Diego fairy shrimp (currently on the permit but with no take authorized) and the federally endangered Quino checkerspot butterfly (a new Project-specific covered species). Collectively these 86 species are referred to as “covered species” by the Village 14 and Planning Areas 16 and 19 amendment. Take authorized for covered wildlife species would be effective upon permit issuance.

The proposed action includes approval of the land disposal/exchange and the issuance of an amendment to the Subarea Plan incidental take permit to extend incidental take authorization for the Project. The proposed action will:

1. Allow the California Department of Fish and Wildlife Service to dispose of 219.4 acres of land to the Project proponent in exchange for 339.7 acres of land in fee title;

2. Reclassify 44.5 acres of the Subarea Plan from “Otay Ranch areas where no `take permits' will be authorized” to “take authorized area,” to allow for future development;

3. Reclassify 2.2 acres of the Subarea Plan from “hardline preserve” to “take authorized area”;

4. Provide take authorization for the Quino checkerspot butterfly and San Diego fairy shrimp; and

5. Designate 531.2 acres as “hardline preserve.”

In combination, these actions would result in permanent conservation of high-quality habitat (connected to other conserved, high-value habitat areas) that support listed and/or sensitive plant and animal species, and would contribute to the overall conservation goals of the region.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10 of the Act (16 U.S.C. 1531 et seq.) and the National Environmental Policy Act (42 U.S.C. 4321 et seq.).

Scott Sobiech,
Field Supervisor, Carlsbad Fish and Wildlife Office, Carlsbad, California.

[FR Doc. 2020-15952 Filed 7-22-20; 8:45 am]

BILLING CODE 4333-55-P